ENVIRONMENTAL PROTECTION AGENCY

[SFUND-2003-0003; FRL-7538-3]

Agency Information Collection Activities; Submission of EPA ICR No. 1428.06 (OMB No. 2050-0078) to OMB for Review and Approval; Comment Request

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Trade Secret Claims for Emergency Planning and Community Right-to-Know (EPCRA Section 322). This ICR describes the nature of the information collection and its estimated burden and cost.

DATES: Additional comments may be submitted on or before September 2, 2003.

ADDRESSES: Follow the detailed instructions in SUPPLEMENTARY INFORMATION.

FOR FURTHER INFORMATION CONTACT: Sicy Jacob, Chemical Emergency Preparedness and Prevention Office (CEPPO), OSWER, Mailcode 5104A, Environmental Protection Agency, 1200 Pennsylvania Ave., NW., Washington, DC 20460; telephone number: (202) 564-8019; fax number: (202) 564-8233; e-mail address: jacob.sicy@epa.gov.

SUPPLEMENTARY INFORMATION: EPA has submitted the following ICR to OMB for review and approval according to the procedures prescribed in 5 CFR 1320.12. On March 6, 2003 (68 FR 10721), EPA sought comments on this ICR pursuant to 5 CFR 1320.8(d). EPA did not receive any comments.

EPA has established a public docket for this ICR under Docket ID No. SFUND-2003-0003, which is available for public viewing at the Superfund Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Superfund Docket is (202) 566-0276. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice, and according to the following detailed instructions: (1) Submit your comments to EPA online using EDOCKET (our preferred method), by e-mail to superfund.docket@epa.gov, or by mail to: EPA Docket Center, Environmental Protection Agency, Superfund Docket, Mailcode 5202T, 1200 Pennsylvania Ave., NW., Washington, DC 20460, and (2) Mail your comments to OMB at: Office of Information and Regulatory Affairs, Office of Management and Budget (OMB), Attention: Desk Officer for EPA, 725 17th Street, NW., Washington, DC 20503.

EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to www.epa.gov/edocket.

Title: Trade Secret Claims for Emergency Planning and Community Right-to-Know and Emergency Planning (EPCRA Section 322), (OMB Control Number 2050-0078, EPA ICR Number 1428.06). This is a request to renew an existing approved collection that is scheduled to expire on September 30, 2003. Under OMB regulations, the Agency may continue to conduct or sponsor the collection of information while this submission is pending at OMB.

Abstract: This information collection request pertains to trade secrecy claims submitted under section 322 of the Emergency Planning and Community Right-to-Know Act of 1986 (EPCRA), also known as Title III of SARA, the Superfund Amendments and Reauthorization Act. Title III contains provisions requiring facilities to report to State and local authorities, and EPA, the presence, use and release of extremely hazardous substances (described in sections 302 and 304) and hazardous and toxic chemicals (described in sections 311, 312 and 313 respectively). Section 322 of Title III allows a facility to withhold the specific chemical identity from these Title III reports if the facility asserts a claim of trade secrecy for that chemical identity. The provision establishes the requirements and procedures that facilities must follow to request trade secrecy treatment of chemical identities, as well as the procedures for submitting public petitions to the Agency for review of the “sufficiency” of trade secrecy claims. EPA published the trade secrecy regulations on July 29, 1988 (58 FR 28772), codified in 40 CFR Part 350.

Trade secrecy protection is provided for specific chemical identities contained in reports submitted under each of the following Title III sections: (1) 303 (d)(2)—Facility notification of changes that have or are about to occur; (2) 303 (d)(3)—Local Emergency Planning Committee (LEPC) requests for facility information to develop or implement emergency plans; (3) 311—Material Safety Data Sheets (MSDSs) submitted by facilities, or lists of those chemicals submitted in place of the MSDSs; (4) 312—Tier II emergency and hazardous chemical inventory forms; and, (5) 313—Toxic chemical release inventory forms.

An agency may not conduct or sponsor, and a person is not required to respond to, a collection of information unless it displays a currently valid OMB control number. The OMB control numbers for EPA's regulations are listed in 40 CFR part 9 and 48 CFR chapter 15, and are identified on the form and/or instrument, if applicable.

Burden Statement: The annual public reporting and recordkeeping burden for this collection of information is estimated to average 10 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Facilities that may want to claim trade secret for specific chemical identity contained in reports submitted under EPCRA sections 303(d)(2) and (d)(3), 311, 312, and 313; members of the general public submitting petitions for trade secrets claimed by facilities; and State governors or State Emergency Response Commissions and Health Professionals requesting facilities for information on the health effects of trade secret chemicals in non-emergency and preventative measure situations.

Estimated Number of Respondents: 357.

Frequency of Response: Annually.

Estimated Total Annual Hour Burden: 3,483 hours.

Estimated Total Annual Cost: $147,543. No capital or operation and maintenance costs are associated with any requirements in this ICR.

Changes in the Estimates: There is an increase of 362 hours in the total annual estimated burden currently identified in the OMB Inventory of Approved ICR Burdens. This is due to an increase in the number of claims submitted under sections 303(d)(2), (d)(3), 311 and 312 of EPCRA. Trade secret claims under section 313 have decreased from previous ICR.

Dated: July 23, 2003.
Doreen Sterling,
Acting Director, Collection Strategies Division.

[FR Doc. 03-19502 Filed 7-30-03; 8:45 am]

BILLING CODE 6560-50-P